EQUAL EMPLOYMENT OPPORTUNITY COMMISSION

Agency Information Collection Activities: Proposed Collection; Comment Request

AGENCY: Equal Employment Opportunity Commission.

ACTION: Notice of information collection—new: Demographic Information on Applicants for Federal Employment.

SUMMARY: In accordance with the Paperwork Reduction Act of 1995 (Pub. L. 104-13, 44 U.S.C. chapter 35), the Equal Employment Opportunity Commission (Commission or EEOC) announces that it intends to submit to the Office of Management and Budget (OMB) a request to approve a new information collection as described below.

DATES: Written comments on this notice must be submitted on or before January 14, 2008.

ADDRESSES: Written comments should be submitted to Stephen Llewellyn, Executive Officer, Executive Secretariat, Equal Employment Opportunity Commission, 10th Floor, 1801 L Street, NW., Washington, DC 20507. As a convenience to commentators, the Executive Secretariat will accept comments transmitted by facsimile (“FAX”) machine. The telephone number of the FAX receiver is (202) 663-4114. (This is not a toll-free number.) Only comments of six or fewer pages will be accepted via FAX transmittal. This limitation is necessary to assure access to the equipment. Receipt of FAX transmittals will not be acknowledged, except that the sender may request confirmation of receipt by calling the Executive Secretariat staff at (202) 663-4070 (voice) or (202) 663-4074 (TTD). (These are not toll-free telephone numbers.) You may also submit comments and attachments electronically at http://www.regulations.gov, which is the Federal eRulemaking Portal. Follow the instructions online for submitting comments. Copies of comments submitted by the public will be available to review at the Commission's library, Room 6502, 1801 L Street, NW., Washington, DC 20507 between the hours of 9:30 a.m. and 5 p.m. or can be reviewed at http://www.regulations.gov.

FOR FURTHER INFORMATION CONTACT: Heidi Schandler, Affirmative Employment Division, Federal Sector Programs, Office of Federal Operations, 1801 L Street, NW., Washington, DC 20507, (202) 663-4416 (voice); (202) 663-7208 (TTD). This notice is available in the following formats: Braille, audio tape, and electronic file on computer disk. Requests for this notice in an alternative format should be made to the Publications Center at 1-800-699-3362.

SUPPLEMENTARY INFORMATION: EEOC enforces Title VII of the Civil Rights Act, the Equal Pay Act, the Age Discrimination in Employment Act, the Rehabilitation Act and Title I of the Americans with Disabilities Act. Pursuant to its authority under those statutes, EEOC issued Equal Employment Opportunity Management Directive 715 (MD-715) to provide policy guidance and standards for establishing and maintaining effective affirmative programs of equal employment opportunity under Section 717 of Title VII and effective affirmative action programs under Section 501 of the Rehabilitation Act. MD-715 applies to all executive agencies and military departments (except uniformed members) as defined in Sections 102 and 105 of Title 5 U.S.C. (including those with employees and applicants for employment who are paid from nonappropriated funds), the United States Postal Service, the Postal Rate Commission, the Tennessee Valley Authority, the Smithsonian Institution, and those units of the judicial branch of the federal government having positions in the competitive service.

The overriding objective of MD-715 is to ensure that all employees and applicants for employment enjoy equality of opportunity in the federal workplace regardless of race, color, sex, age, national origin, religion or disability. In order to ensure that agencies proactively prevent potential discrimination before it occurs and establish systems to monitor compliance with Title VII and the Rehabilitation Act, MD-715 requires agencies to evaluate their employment practices by collecting and analyzing data on the race, national origin, sex and disability status of applicants for both permanent and temporary employment. See also 29 CFR Part 1607 (Uniform Guidelines on Employee Selection Procedures). This notice concerns an optional form for the use of federal agencies in gathering data on the race, national origin, sex and disability status of applicants, which constitutes a collection of information under the Paperwork Reduction Act.

Pursuant to the Paperwork Reduction Act of 1995, 44 U.S.C. Chapter 35, and OMB regulation 5 CFR 1320.8(d)(1), the Commission solicits public comment on its proposed optional form for use by federal agencies in gathering demographic information on applicants for federal employment. Comments are particularly invited on whether this collection of information will enable the Commission and federal agencies to:

• Evaluate whether the proposed data collection tool will have practical utility by enabling a federal agency to determine whether recruitment activities are effectively reaching all segments of the relevant labor pool in compliance with the laws enforced by the Commission and whether the agency's selection procedures allow all applicants to compete on a level playing field regardless of race, national origin, sex or disability status;

• Evaluate the accuracy of the agency's estimate of the burden of the proposed collection of information, including the validity of the methodology and assumptions used;

• Enhance the quality, utility, and clarity of the information to be collected; and

• Minimize the burden of the collection of information on applicants for federal employment who choose to respond, including through the use of appropriate automated, electronic, mechanical, or other technological collection techniques or other forms of information technology, e.g., permitting electronic submission of responses.

The remainder of this SUPPLEMENTARY INFORMATION section provides the public with information it will need to comment on the EEOC proposal. It contains an overview of the information collection and the proposed form that agencies can use to collect the demographic information on persons who apply for federal employment.

The Demographic Information on Applicants form is designed to enable federal agencies to evaluate their employment practices by collecting and analyzing data on the race, national origin, sex and disability status of applicants for both permanent and temporary employment. Use of the form is not required. Federal agencies may or may not elect to use the form. Applicants for federal employment may or may not elect to complete the form.

Background: Under the provisions of Title VII and the Rehabilitation Act, the Commission is charged with ensuring that federal agencies proactively prevent potential discrimination before it occurs. Pursuant to such oversight responsibilities, the Commission has established systems to monitor compliance with Title VII and the Rehabilitation Act by requiring federal agencies to evaluate their employment practices through the collection and analysis of data on the race, national origin, sex and disability status of applicants for both permanent and temporary employment.

While several federal agencies (or components of such agencies) have obtained OMB approval for the use of forms collecting data on the race, national origin, sex and disability status of applicants, it is not an efficient use of government resources for each federal agency to separately seek OMB approval. Accordingly, in order to avoid unnecessary duplication of effort and a proliferation of forms, the EEOC seeks approval of a form which can be used by any agency which so desires. Use of the proposed form is optional; an agency is free to develop and seek OMB approval of an agency-specific form should the agency so desire.

Response by applicants is optional. The information obtained will be used by federal agencies only for evaluating whether an agency's recruitment activities are effectively reaching all segments of the relevant labor pool and whether the agency's selection procedures allow all applicants to compete on a level playing field regardless of race, national origin, sex or disability status. The voluntary responses are treated in a highly confidential manner and play no part in the selection of who is hired. The information is not provided to any panel rating the applications, to selecting officials, to anyone who can affect the application or to the public. Rather, the information is used in summary form to determine trends over many selections within a given occupational or organization area. No information from the form is entered into an official personnel file.

Burden Statement: In August 2005, the Office of Personnel Management (OPM) announced that it had submitted a revised “Optional Application for Federal Employment OF 612” to OMB to collect applicant qualifications information associated with vacancy announcements for federal positions and the specifications of the improved resume builder in the USAJOBS Web site. See 70 FR 44699 (August 3, 2005). Noting the “dramatic upsurge in responses * * * in the Federal application process and the advancement of technology to provide for online application, [and the] increased interest by job seekers in Federal employment,” OPM estimated the number of respondents for the OF 612 at 245,000 and estimated the number of respondents for the resume builder at 3,510,600.

According to the OPM, in Fiscal Year (FY) 2006, Government-wide, there was a total of 237,525 new hires by federal agencies (excluding agencies not included in the Central Personnel Data File (CPDF), such as the United States Postal Service and the Tennessee Valley Authority) and a total of 12,013 employees who transferred to other federal agencies. See OPM's FedScope tool for Human Resources Data at: http://www.fedscope.opm.gov/accessions.asp.

Because no federal agency is required to use this form and because responses by applicants are optional, it is not possible to accurately forecast the number of responses and the public reporting burden for the collection of the data. For purposes of this submission, the EEOC has chosen to calculate its initial estimate of the burden hours based upon the highest feasible number based upon OPM's estimated number of respondents utilizing the USAJOBS Federal employment information system.

Because of the increasing use of online application systems, which require only pointing and clicking on the selected responses, and because the form requests only six questions regarding basic information, the EEOC estimates that an applicant can complete the form in approximately 3 minutes.

Overview of This Information Collection

Collection Title: Demographic Information on Applicants.

OMB Control No.: None.

Description of Affected Public: Individuals submitting applications for federal employment.

Number of Responses: 3,510,600.

Estimated Time per Respondent: 3 minutes.

Total Burden Hours: 175,530 [(3,510,600 × 3)/60].

Federal Cost: None.

Form—DEMOGRAPHIC INFORMATION ON APPLICANTS

Vacancy Announcement No.:

Position Title and Grade:

Name (Last, First, Middle Initial):

Your Privacy Is Protected

This information is used to determine if our recruitment efforts are reaching all segments of the population, consistent with Federal equal employment opportunity laws. Your voluntary responses are treated in a highly confidential manner. Your responses are not released to the panel rating the applications, to the selecting official, to anyone else who can affect your application, or to the public. No information taken from this form is ever placed in your Personnel file. This is vital information not available from any other source. We can only get it directly from you. Thank you for helping us to provide better service.

1. How did you learn about this position? (Check One):

1. Agency Internet Site recruitment.

2. Private Employment Web Site.

3. Other Internet Site.

4. Poster.

5. Newspaper.

6. Magazine.

7. TV/Radio.

8. Student association.

9. Private Employment Office.

10. State Employment Office.

11. Federal, state, or local Job Information Center.

12. Agency Human Resources Department (bulletin board or other announcement).

13. Agency or other Federal government on campus.

14. Religious organization.

15. School or college counselor or other official.

16. Job Fair (give location: ____).

17. Friend or relative working for this agency.

18. State Vocational Rehabilitation Agency.

19. Professional organization or publication.

20. Other.

2. Sex (Check One):

1. Male

2. Female

3. Ethnicity (Check One):

1. Hispanic or Latino—a person of Cuban, Mexican, Puerto Rican, South or Central American, or other Spanish culture or origin, regardless of race.

2. Not Hispanic or Latino

4. Race (Check all that apply):

1. American Indian or Alaskan Native—a person having origins in any of the original peoples of North or South America (including Central America), and who maintains tribal affiliation or community attachment.

2. Asian—a person having origins in any of the original peoples of the Far East, Southeast Asia, or the Indian subcontinent, including, for example, Cambodia, China, India, Japan, Korea, Malaysia, Pakistan, the Philippine Islands, Thailand, or Vietnam.

3. Black or African American—a person having origins in any of the black racial groups of Africa.

4. Native Hawaiian or Other Pacific Islander—a person having origins in any of the original peoples of Hawaii, Guam, Samoa, or other Pacific islands.

5. White—a person having origins in any of the original peoples of Europe, the Middle East, or North Africa.

Under the Rehabilitation Act (Act), information on your disability status is used solely in connection with affirmative action obligations or efforts. Self-identification of your disability status is voluntary. The information will be kept confidential in accordance with the Act provisions and the information will be used only in accordance with the Act. A refusal to provide the information will not subject you to any adverse treatment.

5. Do you have any physical or mental disabilities?

1. Yes.

2. No.

3. Do not wish to respond.

If yes, do you have a targeted disability? Check all that apply:*

1. Deaf (Total deafness in both ears, with or without understandable speech).

2. Blind (Inability to read ordinary size print, not correctable by glasses or no useable vision beyond light perception).

3. Missing extremities (Missing one arm or leg or missing two or more hands, arms, feet, or legs).

4. Partial paralysis (Loss of ability to move or use a part of the body, including hands, arms, legs, and/or trunk).

5. Complete paralysis.

6. Seizure/convulsive disorder (e.g., epilepsy).

7. Intellectual Disorder/Mental retardation (A chronic and lifetime condition certifiable under Schedule A).

8. Psychiatric Disorder or a history of treatment for mental or emotional illness.

9. Severe distortion of limbs and/or spine (e.g., dwarfism; kyphosis, etc.).

*Descriptions based on Standard Form 256.

Privacy Act and Paperwork Reduction Act Statement

Privacy Act Information: This information is provided pursuant to Public Law 93-579 (“Privacy Act of 1974”), for individuals completing Federal records and forms that solicit personal information. The authority is Title 5 of the U.S. Code, sections 1302, 3301, 3304, and 7201. Purpose and Routine Uses: No individual data is ever provided to selecting officials. This form will only be seen by HR Personnel and Equal Employment Opportunity officials. Data summarizing all applicants for a position will be used to determine if we are effectively recruiting from all segments of the population, in conformance with the requirements of Federal equal employment opportunity laws. Only summary data is reported, and only in a format which can not be broken out by individual applicants. Effects of Nondisclosure: Providing this information is voluntary. No individual personnel selections are made based on this information.

Paperwork Reduction Act Statement: The Paperwork Reduction Act of 1995 (44 U.S.C. 3501, et seq.,) requires us to inform you that this information is being collected for planning and assessing affirmative employment program initiatives. Response to this request is voluntary. An agency may not conduct or sponsor, and a person is not required to respond to, a collection of information unless it displays a currently valid OMB Control Number. The estimated burden of completing this form is three (3) minutes, including the time for reviewing instructions. Direct comments regarding the burden estimate or any other aspect of this form to the Equal Employment Opportunity Commission, Affirmative Employment Division, Federal Sector Programs, 1801 L St., NW., Washington, DC 20507 and to the Office of Management and Budget, Office of Information and Regulatory Affairs, Washington, DC 20503.

Dated: November 5, 2007.
For the Commission.
Naomi C. Earp,
Chair.

[FR Doc. E7-22242 Filed 11-14-07; 8:45 am]

BILLING CODE 6570-01-P